SECURITIES AND EXCHANGE COMMISSION

[Release No. 34-34-99910; File No. SR-CboeEDGX-2023-083]

Self-Regulatory Organizations; Cboe EDGX Exchange, Inc.; Notice of Withdrawal of a Proposed Rule Change To Make Permanent Pilot Programs in Connection With the Listing and Trading of P.M.-Settled Series on Certain Broad-Based Index Options

April 5, 2024.

On December 26, 2023, Cboe EDGX Exchange, Inc. (“Exchange”) filed with the Securities and Exchange Commission (“Commission”), pursuant to Section 19(b)(1) of the Securities Exchange Act of 1934 (“Act”) ¹ and Rule 19b-4 thereunder,² a proposed rule change to make permanent the operation of its programs that allow the Exchange to list options on the Mini-SPX Index with P.M.-settlement and to list broad-based index options with nonstandard expirations. The proposed rule change was published for comment in the Federal Register on January 16, 2024.³ On February 28, 2024, pursuant to Section 19(b)(2) of the Act,⁴ the Commission designated a longer period within which to approve the proposed rule change, disapprove the proposed rule change, or institute proceedings to determine whether to disapprove the proposed rule change.⁵ On April 1, 2024, the Exchange withdrew the proposed rule change (CboeEDGX-2023-083).

¹ 15 U.S.C. 78s(b)(1).

² 17 CFR 240.19b-4.

³ See Securities Exchange Act Release No. 99300 (January 9, 2024), 89 FR 2695.

⁴ 15 U.S.C. 78s(b)(2).

⁵ See Securities Exchange Act Release No. 99621, 89 FR 15906 (March 5, 2024). The Commission designated April 15, 2024, as the date by which the Commission shall approve or disapprove, or institute proceedings to determine whether to approve or disapprove, the proposed rule change.

For the Commission, by the Division of Trading and Markets, pursuant to delegated authority.⁶
⁶ 17 CFR 200.30-3(a)(12).
Sherry R. Haywood,
Assistant Secretary.

[FR Doc. 2024-07639 Filed 4-10-24; 8:45 am]

BILLING CODE 8011-01-P